FEDERAL COMMUNICATIONS COMMISSION

[DA 18-40]

Partial Lift of Freeze on Filing Petitions for Rulemaking To Change Television Stations Community of License

AGENCY: Federal Communications Commission.

ACTION: Notice.

SUMMARY: This document announces that the Media Bureau is partially lifting the freeze on filing rulemaking petitions to change a full power television station's community of license, where no technical facility change is required.

DATES: February 12, 2018.

FOR FURTHER INFORMATION CONTACT: Joyce Bernstein, Joyce.Bernstein@fcc.gov, or Kevin Harding, Kevin.Harding@fcc.gov, Video Division, Media Bureau, Federal Communications Commission.

SUPPLEMENTARY INFORMATION: On August 3, 2004, in connection with the development of a channel election and repacking process in advance of the DTV transition, the Media Bureau imposed a freeze on the filing of petitions requesting new channels or service areas for full power television stations in order to ensure a stable database in connection with that process. Although the DTV transition was completed in 2009, the Commission continued the freezes as a result of the National Broadband Plan, which recommended that the Commission reallocate spectrum for new broadband services and repack television channels to increase the efficiency of channel use. Auction 1000, which was conducted pursuant to Title VI of the Middle Class Tax Relief and Job Creation Act of 2012, was completed on April 13, 2017, and a 39-month post-auction transition period is underway during which some broadcast television stations will be relicensed to new channel assignments.

Because the DTV transition is complete and the post-incentive auction transition is underway, it is no longer necessary to freeze community of license petitions that do not require a change in the station's service area. The freeze on the filing of petitions for rulemaking for new station channel allotments, for changes in licensed stations' channels, or to change community of license which include changes in authorized technical facilities, remain in place.

Federal Communications Commission.
Barbara Kreisman,
Chief, Video Division, Media Bureau.

[FR Doc. 2018-02794 Filed 2-9-18; 8:45 am]

BILLING CODE 6712-01-P